DEPARTMENT OF TRANSPORTATION

Federal Aviation Administration

International Civil Aviation Organization's (ICAO) Dangerous Goods Panel; Notice of Public Meeting

AGENCY: Federal Aviation Administration (FAA), DOT.

ACTION: Notice of public meeting.

SUMMARY: In preparation for the International Civil Aviation Organization's (ICAO) Dangerous Goods Panel's (DGP's) meeting to be held October 28-November 8, 2013, in Montreal, Canada, the FAA's Office of Hazardous Materials Safety and the Pipeline and Hazardous Materials Safety Administration's (PHMSA) Office of Hazardous Materials Safety announce a public meeting.

DATES: The public meeting will be held on October 18, 2013 from 9 a.m. until 12 p.m.

ADDRESSES: The public meeting will be held at FAA Headquarters (FOB 10A), Bessie Coleman Conference Center, 2nd Floor, 800 Independence Avenue SW., Washington, DC 20591.

Participants are requested to register by using the following email address: 9-AWA-ASH-ADG-HazMat@faa.gov.

Please include your name, organization, email address, and indicate whether you will be attending in person or participating via conference call. Conference call connection information will be provided to those who register and indicate that they will participate via conference call.

FOR FURTHER INFORMATION CONTACT: Questions regarding the meeting can be directed to Ms. Janet McLaughlin, Deputy Director, Office of Hazardous Materials Safety, ADG-2, Federal Aviation Administration, 800 Independence Avenue SW., Washington, DC 20591; telephone (202) 385-4900. Email: 9-AWA-ASH-ADG-HazMat@faa.gov. Questions in advance of the meeting for PHMSA can be directed to Mr. Duane Pfund, International Standards Coordinator, Pipeline and Hazardous Materials Safety Administration, PHH-10, 1200 New Jersey Ave. SE., Washington, DC 20590, telephone (202) 366-8553, Email: Duane.Pfund@dot.gov.

We are committed to providing equal access to this meeting for all participants. If you need alternative formats or other reasonable accommodations, please call (202) 385-4900 or email 9-AWA-ASH-ADG-HazMat@faa.gov with your request by close of business on October 11th.

Purpose of the Public Meeting

Information and viewpoints provided by stakeholders are requested as the United States delegation prepares for the International Civil Aviation Organization's Dangerous Goods Panel's (ICAO DGP's) 24th Panel Meeting. The agenda for the Working Group is as follows:

Agenda Item 1: Development of proposals, if necessary, for amendments to Annex 18—The Safe Transport of Dangerous Goods by Air

Agenda Item 2: Development of recommendations for amendments to the Technical Instructions for the Safe Transport of Dangerous Goods by Air (Doc 9284) for incorporation in the 2015-2016 Edition

Agenda Item 3: Development of recommendations for amendments to the Supplement to the Technical Instructions for the Safe Transport of Dangerous Goods by Air (Doc 9284SU) for incorporation in the 2015-2016 Edition

Agenda Item 4: Development of recommendations for amendments to the Emergency Response Guidance for Aircraft Incidents involving Dangerous Goods (Doc 9481) for incorporation in the 2015-2016 Edition

Agenda Item 5: Resolution, where possible, of the non-recurrent work items identified by the Air Navigation Commission or the panel:

5.1: Review of provisions for the transport of lithium batteries

5.2: Dangerous goods incident and accident data collection

5.3: Dangerous goods requirements in Annex 6—Operation of Aircraft

5.4: Development of guidance material on countering the potential use of dangerous goods in an act of unlawful interference

5.5: Development of performance standards for air operators and designated postal operators

Agenda Item 6: Other business

Papers relevant to these agenda items can be viewed at the following Web page: http://www.icao.int/safety/DangerousGoods/Pages/DGP.aspx.

Public Meeting Procedures

A panel of representatives from the FAA and PHMSA will be present. The meetings are intended to be informal, non-adversarial, and to facilitate the public comment process. No individual will be subject to questioning by any other participant. Government representatives on the panel may ask questions to clarify statements. Unless otherwise stated, any statement made during the meetings by a panel member should not be construed as an official position of the US government.

The meeting will be open to all persons, subject to the capacity of the meeting room and phone lines available for those participating via conference call. Every effort will be made to accommodate all persons wishing to attend. The FAA and PHMSA will try to accommodate all speakers, subject to time constraints.

Issued in Washington, DC, on September 20, 2013.
Christopher Glasow,
Director, Office of Hazardous Materials Safety.

[FR Doc. 2013-23521 Filed 9-25-13; 8:45 am]

BILLING CODE 4910-13-P